DEPARTMENT OF DEFENSE

Office of the Secretary

32 CFR Part 341

Deputy Secretary of Defense

AGENCY: Department of Defense.

ACTION: Final rule.

SUMMARY: This final regulation announces the authority of the Deputy Secretary of Defense, Dr. Paul Wolfowitz, to act for the Secretary of Defense and to exercise the powers of the Secretary of Defense upon any and all matters concerning which the Secretary of Defense is authorized to act pursuant to law. It further permits the Deputy Secretary to make specific delegations of this authority in appropriate cases.

EFFECTIVE DATE: January 26, 2001.

FOR FURTHER INFORMATION CONTACT: Mark Munson, Directorate of Organizational and Management Planning, Office of the Director, Administration and Management, Office of the Secretary of Defense, 1950 Defense Pentagon, Washington, DC 20301-1950, telephone 703-697-1143.

SUPPLEMENTARY INFORMATION:

Executive Order 12866, “Regulatory Planning and Review”

It has been determined that 32 CFR part 341 is not a significant regulatory action. The rule does not:

(1) Have an annual effect to the economy of $100 million or more or adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in this Executive Order.

Unfunded Mandates Reform Act (Sec. 202, Pub. L. 104-4)

It has been certified that this rule does not contain a Federal mandate that may result in the expenditure by State, local and tribal governments, in aggregate, or by the private sector, of $100 million or more in any one year.

Public Law 96-354, “Regulatory Flexibility Act” (5 U.S.C. 601)

It has been certified that this rule is not subject to the Regulatory Flexibility Act (5 U.S.C. 601) because it would not, if promulgated, have a significant economic impact on a substantial number of small entities because it does not change existing DoD practices and it primarily affects the internal activities of the Department of Defense.

Public Law 96-511, “Paperwork Reduction Act” (44 U.S.C. Chapter 35)

It has been certified that this rule does impose reporting or recordkeeping requirements under the Paperwork Reduction Act of 1995. The reporting and recordkeeping requirements have been submitted to OMB for review.

Federalism (Executive Order 13132)

It has been certified that this rule does not have federalism implications, as set forth in Executive Order 13132. This rule does not have substantial direct effects on:

(1) The States;

(2) The relationship between the National Government and the States; or

(3) The distribution of power and responsibilities among the various levels of government.

List of Subjects in 32 CFR Part 341

Organization and functions (Government agencies).

Accordingly, Chapter I, Subchapter R, of title 32 of the Code of Federal Regulations is amended to add part 341 to read as follows:

PART 341—DEPUTY SECRETARY OF DEFENSE

Sec.
341.1 Purpose.

Authority: 10 U.S.C. 301.

§ 341.1 Purpose.

(a) In accordance with the authorities contained in 10 U.S.C. and except as expressly prohibited by law, Deputy Secretary of Defense Paul D. Wolfowitz has full power and authority to act for the Secretary of Defense and to exercise the powers of the Secretary of Defense upon any and all matters concerning which the Secretary of Defense is authorized to act pursuant to law.

(b) The all-inclusive authority reflected herein may not be delegated in toto; however, the Deputy is authorized to make specific delegations, as required.

Dated: June 18, 2002.
L.M. Bynum,
Alternate OSD Federal Register Liaison Officer, Department of Defense.

[FR Doc. 02-15913 Filed 6-24-02; 8:45 am]

BILLING CODE 5001-08-M